DEPARTMENT OF THE TREASURY

Internal Revenue Service

Open Meeting of the Taxpayer Advocacy Panel's Tax Forms and Publications Project Committee: Correction

AGENCY: Internal Revenue Service (IRS) Treasury.

ACTION: Notice of meeting: correction.

SUMMARY: In the Federal Register that was originally published on September 13, 2023, the time for this meeting is being changed to 3:30 p.m. Eastern Time. All other meeting details remain unchanged. This meeting will be held via teleconference.

DATES: The meeting will be held Tuesday, October 10, 2023.

FOR FURTHER INFORMATION CONTACT: Ann Tabat at 1-888-912-1227 or (602) 636-9143.

SUPPLEMENTARY INFORMATION: Notice is hereby given pursuant to Section 10(a)(2) of the Federal Advisory Committee Act, 5 U.S.C. app. (1988) that a meeting of the Taxpayer Advocacy Panel's Tax Forms and Publications Project Committee will be held Tuesday, October 10, 2023, at 3:30 p.m. Eastern Time. The public is invited to make oral comments or submit written statements for consideration. Due to limited time and structure of meeting, notification of intent to participate must be made with Ann Tabat. For more information, please contact Ann Tabat at 1-888-912-1227 or (602) 636-9143, or write TAP Office, 4041 N Central Ave., Phoenix, AZ 85012 or contact us at the website: http://www.improveirs.org. The agenda will include a committee discussion involving 57139 Digital Assets/Cryptocurrency; and 64919 Decedent and Trust forms and publications.

Dated: September 19, 2023.
Kevin Brown,
Acting Director, Taxpayer Advocacy Panel.

[FR Doc. 2023-20609 Filed 9-21-23; 8:45 am]

BILLING CODE 4830-01-P